DEPARTMENT OF JUSTICE

Federal Bureau of Investigation

[OMB Number 1110-0068]

Agency Information Collection Activities; Proposed eCollection eComments Requested; Revision of a Currently Approved Collection

AGENCY: Criminal Justice Information Services Division, Federal Bureau of Investigation, Department of Justice.

ACTION: 30-Day notice.

SUMMARY: The Criminal Justice Information Services Division, Federal Bureau of Investigation, Department of Justice, is submitting the following information collection request to the Office of Management and Budget (OMB) for review and approval in accordance with the Paperwork Reduction Act of 1995.

DATES: The Department of Justice encourages public comment and will accept input until February 3, 2022.

ADDRESSES: If you have additional comments especially on the estimated public burden or associated response time, suggestions, or need a copy of the proposed information collection instrument with instructions or additional information, please contact Gerry Lynn Brovey, Supervisory Information Liaison Specialist, FBI, CJIS, Resources Management Section, Administrative Unit, Module C-2, 1000 Custer Hollow Road, Clarksburg, West Virginia 26306; phone: 304-625-4320 or email glbrovey@fbi.gov. Written comments and/or recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the [Component or Office name], including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Records Modification Form.

3. The agency form number, if any, and the applicable component of the Department sponsoring the collection: FD-1115. The applicable component within the Department of Justice is the Criminal Justice Information Services Division, Federal Bureau of Investigation.

4. Affected public who will be asked or required to respond, as well as a brief abstract: Primary: This form is utilized by criminal justice and affiliated judicial agencies to request appropriate modification of criminal history information from an individual's record.

5. An estimate of the total number of respondents and the amount of time estimated for an average respondent to respond: It is estimated that 105 respondents are authorized to complete the form which would require approximately 5 minutes. The total number of respondents is reoccurring with an annual response of 79,756.

6. An estimate of the total public burden (in hours) associated with the collection: There are an estimated 6,646 total annual burden hours associated with this collection.

If additional information is required, contact: Melody Braswell, Department Clearance Officer, United States Department of Justice, Justice Management Division, Policy and Planning Staff, Two Constitution Square, 145 N Street NE, 3E.405A, Washington, DC 20530.

Dated: December 29, 2021.
Melody Braswell,
Department Clearance Officer for the PRA, U.S. Department of Justice.

[FR Doc. 2021-28498 Filed 1-3-22; 8:45 am]

BILLING CODE 4410-02-P